DEPARTMENT OF TRANSPORTATION

Federal Aviation Administration

Notice of Intent To Request Extension From the Office of Management and Budget of a Currently Approved Information Collection Activity, Request for Comments; Certification of Airmen for the Operation of Light-Sport Aircraft

AGENCY: Federal Aviation Administration (FAA), DOT.

ACTION: Notice and request for comments.

SUMMARY: The FAA invites public comments about our intention to request the Office of Management and Budget (OMB) to approve a current information collection. This rule generates a need for new designated pilot examiners and designated airworthiness representatives to support the certification of these new aircraft, pilots, flight instructors, and ground instructors.

DATES: Please submit comments by August 9, 2010.

FOR FURTHER INFORMATION CONTACT: Carla Scott on (202) 267-9895, or by e-mail at: Carla.Scott@faa.gov.

SUPPLEMENTARY INFORMATION:

Federal Aviation Administration (FAA)

Title: Certification of Airmen for the Operation of Light-Sport Aircraft.

Type of Request: Extension without change of an approved collection.

OMB Control Number: 2120-0690.

Forms(s): FAA forms 337, 8610-2, 8110-14, 8110-28, 8710-11.

Affected Public: A total of 57,214 Respondents.

Frequency: The information is collected on occasion.

Estimated Average Burden per Response: Approximately 1.27 hours per response.

Estimated Annual Burden Hours: An estimated 72,582 hours annually.

Abstract: This rule generates a need for new designated pilot examiners and designated airworthiness representatives to support the certification of these new aircraft, pilots, flight instructors, and ground instructors.

ADDRESSES: Send comments to the FAA at the following address: Ms. Carla Scott, Room 712, Federal Aviation Administration, IT Enterprises Business Services Division, AES-200, 800 Independence Ave., SW., Washington, DC 20591.

Comments Are Invited On: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on June 3, 2010.
Carla Scott,
FAA Information Collection Clearance Officer, IT Enterprises Business Services Division, AES-200.

[FR Doc. 2010-13993 Filed 6-9-10; 8:45 am]

BILLING CODE 4910-13-P